DEPARTMENT OF COMMERCE

Patent and Trademark Office

Privacy Act of 1974; System of Records

AGENCY: United States Patent and Trademark Office, Commerce.

ACTION: Notice of amendment of Privacy Act system of records.

SUMMARY: In accordance with the requirements of the Privacy Act of 1974, as amended, the United States Patent and Trademark Office (USPTO) is amending the system of records listed under “COMMERCE/PAT-TM-1 Attorneys and Agents Registered to Practice Before the Office.” This action is being taken to update the Privacy Act notice. We invite the public to comment on the amendments noted in this publication.

DATES: Written comments must be received no later than December 16, 2005. The amendments will become effective as proposed on December 16, 2005, unless the USPTO receives comments that would result in a contrary determination.

ADDRESSES: You may submit written comments by any of the following methods:

• E-mail: Steve.Hanson@uspto.gov.

• Fax: (571) 273-4097, marked to the attention of Steve Hanson.

• Mail: Steve Hanson, Office of Enrollment and Discipline, United States Patent and Trademark Office, Mail Stop OED, P.O. Box 1450, Alexandria, VA 22313-1450.

All comments received will be available for public inspection at the USPTO Public Search Facility, Madison East Building—1st Floor, 600 Dulany Street, Alexandria, VA 22314.

FOR FURTHER INFORMATION CONTACT: Director, Office of Enrollment and Discipline, United States Patent and Trademark Office, Mail Stop OED, P.O. Box 1450, Alexandria, VA 22313-1450, (571) 272-4097.

SUPPLEMENTARY INFORMATION: The United States Patent and Trademark Office (USPTO) is giving notice of an amendment to a system of records that is subject to the Privacy Act of 1974. This system of records maintains information on attorneys and agents who are, or have been, registered to practice before the USPTO in patent cases, as well as applicants and former applicants for such registration to practice. The Privacy Act notice is being updated with current address information for the system location and system manager. The authority for maintenance of the system and rule references for the notification procedure and contesting record procedures are being updated to correspond to the current statutes and rules for those items as related to the USPTO. The descriptions of retrievability and safeguards have also been revised to indicate that the relevant electronic database for this system of records is password protected and accessible only by authorized staff members of the USPTO Office of Enrollment and Discipline.

The Privacy Act system of records notice, “COMMERCE/PAT-TM-1 Attorneys and Agents Registered to Practice Before the Office,” was previously published at 65 FR 19868 (April 13, 2000). The amended system of records notice is published in its entirety below.

COMMERCE/PAT-TM-1

System name:

Attorneys and Agents Registered to Practice Before the Office.

Security classification:

Unclassified.

System location:

Office of Enrollment and Discipline, United States Patent and Trademark Office, 600 Dulany Street, Alexandria, VA 22314; Office of the Solicitor, United States Patent and Trademark Office, 600 Dulany Street, Alexandria, VA 22314.

Categories of individuals covered by the system:

Attorneys and agents who are, or have been, registered to practice before the United States Patent and Trademark Office (USPTO) in patent cases, and applicants and former applicants for such registration to practice.

Categories of records in the system:

Biographical information, personal and professional qualifications, character and fitness report, investigations of an applicant's suitability or eligibility for registration to practice before the USPTO, undertakings of former patent examiners, current address, and status information.

Authority for maintenance of the system:

35 U.S.C. 2.

Purpose(s):

To carry out the duties of the USPTO under 35 U.S.C. 2(b)(2)(D), in particular, the enrollment and recognition of individuals to practice as attorneys and agents before the USPTO in patent, trademark, and other non-patent matters.

Routine uses of records maintained in the system, including categories of users and the purposes of such uses:

See Prefatory Statement of General Routine Uses Nos. 1-5 and 8-13, as found at 46 FR 63501-63502 (December 31, 1981). A public roster including an address of record, law firm or company affiliation, telephone number, and registration number of the registered individuals is published and disseminated; registration status is disseminated upon inquiry; and information may be published or otherwise disclosed to solicit information regarding an applicant's suitability and eligibility for registration to practice before the USPTO.

Disclosure to consumer reporting agencies:

Not applicable.

Policies and practices for storing, retrieving, accessing, retaining, and disposing of records in the system:

Storage:

Paper records in file folders, microfilm, and machine-readable storage media.

Retrievability:

Filed alphabetically by name or registration number. The files are searchable on a database available only to authorized staff members of the Office of Enrollment and Discipline.

Safeguards:

Records are located in lockable metal file cabinets or in metal file cabinets in secured rooms or secured premises with access limited to those whose official duties require access. Electronic files are stored in secured premises with access limited to those whose official duties require access. The electronic files are password protected.

Retention and disposal:

Records retention and disposal is in accordance with the unit's Record Control Schedule.

System manager(s) and address:

Director, Office of Enrollment and Discipline, United States Patent and Trademark Office, Mail Stop OED, P.O. Box 1450, Alexandria, VA 22313-1450.

Notification procedure:

Information may be obtained from the Director, Office of Enrollment and Discipline, United States Patent and Trademark Office, Mail Stop OED, P.O. Box 1450, Alexandria, VA 22313-1450. Requester should provide name, address, date of application, and record sought, pursuant to the inquiry provisions appearing in 37 CFR part 102 subpart B.

Record access procedures:

Requests from individuals should be addressed to the same address as stated in the notification section above.

Contesting record procedures:

The rules for access, for contesting contents, and for appealing initial determinations by the individual concerned appear in 37 CFR part 102 subpart B.

Record source categories:

Subject individual, references, and individuals furnishing information.

Exemptions claimed for the system:

Pursuant to 5 U.S.C. 552a(k)(2), all investigatory materials in the record which meet the criteria in 5 U.S.C. 552a(k)(2) are exempted from the notice, access, and contest requirements (under 5 U.S.C. 552a(c)(3), (d), (e)(1), (e)(4)(G), (H), and (I), and (f)) of the agency regulations because of the necessity to exempt this information and material in order to accomplish the law enforcement function of the agency, to prevent subjects of investigations from frustrating the investigatory process, to prevent the disclosure of investigative techniques, to fulfill commitments made to protect the confidentiality of sources, to maintain access to sources of information, and to avoid endangering these sources and law enforcement personnel.

Dated: November 9, 2005.
Susan K. Brown,
Records Officer, USPTO, Office of the Chief Information Officer, Office of Data Architecture and Services, Data Administration Division.

[FR Doc. 05-22715 Filed 11-15-05; 8:45 am]

BILLING CODE 3510-16-P